DEPARTMENT OF STATE

[Public Notice 5924]

IJC Invites Public Comment on Proposed Decision for Lake Ontario-St. Lawrence River Regulation

The International Joint Commission (IJC) invites public comment on its draft Order of Approval, new regulation plan and other matters related to the regulation of water levels and flows on Lake Ontario and the St. Lawrence River. The IJC intends to make a final decision by the end of this year.

Background Documents

A draft Order of Approval, overview of the new regulation plan and several background documents will be available on September 17, 2007 on the IJC's Web site or from the contacts listed below. The Order of Approval identifies the requirements for setting Lake Ontario outflows that must be met in order to protect all affected interests in the United States and Canada. The regulation plan specifies how the outflow will be set to meet the requirements of the Order under particular water supply conditions at particular times of the year.

Online Public Briefings

The IJC will provide online public briefings to explain its proposed decision and answer questions on October 9, 2007. The same information will be provided at both briefings. Information on how to participate in the public briefings will be announced as soon as it is available.

October 9, 2007, 2 p.m.-3 p.m.

October 9, 2007, 7 p.m.-8 p.m.

Public Hearings

The IJC will accept public comment on its draft Order of Approval, new regulation plan and related matters during public hearings at the following times and locations. Participants are requested to summarize their spoken comments in two-to-three minutes and to provide more detailed comments in writing.

Monday, October 29, 7 p.m.-9 p.m.:

Toronto City Hall, 100 Queen St. West, Toronto ON M5H 2N2.

Tuesday, October 30, 1 p.m.-3 p.m.:

Olcott Fire Company, 1691 Lockport Olcott Road, Olcott, NY 14126.

Tuesday, October 30, 7 p.m.-9 p.m.:

Greece Town Hall, Eastman Room, 1 Vince Toffany Boulevard, Greece, NY 14612.

Thursday, November 1, 7 p.m.-9 p.m.:

American Foundry, 246 West Seneca Street, Oswego, NY 13126.

Monday, November 5, 7 p.m.-9 p.m.:

The City of Kingston, City Hall—Memorial Hall, 216 Ontario Street, Kingston, ON K7L 2Z3.

Tuesday, November 6, 7 p.m.-9 p.m.:

Bonnie Castle, 31 Holland Street, Alexandria Bay, NY 13607.

Wednesday, November 7, 7 p.m.-9 p.m.:

Best Western Parkway Inn and Conference Centre, 1515 Vincent Massey Drive, Cornwall, ON K6H 5R6.

Thursday, November 8, 7 p.m.-9 p.m.:

Biosphère, 160, Chemin Tour-de-l'Isle, Ste-Hèlènè Island, Montreal, PQ H3C 4G8.

Written Comments

Written comments will be accepted at the public hearings, or at either of the addresses below until November 16, 2007.

Secretary, U.S. Section, International Joint Commission, 1250 23rd Street, NW. Suite 100, Washington, DC 20440. Fax: 202-467-0746. E-mail: Commission@washington.ijc.org.

Secretary, Canadian Section, International Joint Commission, 234 Laurier Avenue, 22nd Floor, Ottawa, ON K1P 6K6. Fax: 613-993-5583. E-mail: Commission@ottawa.ijc.org.

How to Obtain Documents

All documents will be available on the IJC Web site on September 17, 2007 at: http://www.ijc.org.

If you would like documents mailed to you, please contact the IJC by telephone or e-mail and provide your name and address: Telephone: (202) 736-9016. E-mail: Commission@washington.ijc.org.

Dated: August 28, 2007.
James G. Chandler,
Acting Secretary, U.S. Section, International Joint Commission, Department of State.

[FR Doc. E7-17431 Filed 8-31-07; 8:45 am]

BILLING CODE 4710-14-P